DEPARTMENT OF ENERGY

Federal Energy Regulatory Commission

Combined Notice of Filings #1

Take notice that the Commission received the following electric corporate filings:

Docket Numbers: EC23-117-001.

Applicants: Heritage Power, LLC, J. Aron & Company LLC.

Description: Notice of Change in Circumstances of Heritage Power, LLC et al.

Filed Date: 9/16/24.

Accession Number: 20240916-5155.

Comment Date: 5 p.m. ET 9/30/24.

Take notice that the Commission received the following exempt wholesale generator filings:

Docket Numbers: EG24-291-000.

Applicants: Prairie Center Energy LLC.

Description: Prairie Center Energy LLC submits Notice of Self-Certification of Exempt Wholesale Generator Status.

Filed Date: 9/18/24.

Accession Number: 20240918-5037.

Comment Date: 5 p.m. ET 10/9/24.

Take notice that the Commission received the following electric rate filings:

Docket Numbers: ER10-3125-018; ER10-3100-017; ER10-3109-015.

Applicants: Washington County Power, LLC, MPC Generating, LLC, AL Sandersville, LLC.

Description: Notice of Non-Material Change in Status of AL Sandersville, LLC et al.

Filed Date: 9/18/24.

Accession Number: 20240918-5116.

Comment Date: 5 p.m. ET 10/9/24.

Docket Numbers: ER24-708-001.

Applicants: Transource Oklahoma, LLC, Southwest Power Pool, Inc.

Description: Compliance filing: Southwest Power Pool, Inc. submits tariff filing per 35: Transcource Oklahoma Amended Order No. 864 Compliance Filing to be effective 7/1/2021.

Filed Date: 9/18/24.

Accession Number: 20240918-5035.

Comment Date: 5 p.m. ET 10/9/24.

Docket Numbers: ER24-2566-001.

Applicants: Northern States Power Company, a Minnesota corporation.

Description: Tariff Amendment: 2024-09-18 CapX Brookings CMA—757—Errata to be effective 6/21/2024.

Filed Date: 9/18/24.

Accession Number: 20240918-5125.

Comment Date: 5 p.m. ET 10/9/24.

Docket Numbers: ER24-2567-001.

Applicants: Northern States Power Company, a Minnesota corporation.

Description: Tariff Amendment: 2024-09-18 CapX Brookings OMA—537—Errata to be effective 6/21/2024.

Filed Date: 9/18/24.

Accession Number: 20240918-5119.

Comment Date: 5 p.m. ET 10/9/24.

Docket Numbers: ER24-2568-001.

Applicants: Northern States Power Company, a Minnesota corporation.

Description: Tariff Amendment: 2024-09-18 CapX Brookings TCEA—538—Errata to be effective 6/21/2024.

Filed Date: 9/18/24.

Accession Number: 20240918-5111.

Comment Date: 5 p.m. ET 10/9/24.

Docket Numbers: ER24-2663-000.

Applicants: Anticline Wind, LLC.

Description: Supplement to 08/01/2024 Anticline Wind, LLC tariff filing.

Filed Date: 9/12/24.

Accession Number: 20240912-5209.

Comment Date: 5 p.m. ET 9/23/24.

Docket Numbers: ER24-2664-000.

Applicants: Cedar Springs Wind IV, LLC.

Description: Supplement to 08/01/2024 Clear Springs Wind IV, LLC tariff filing.

Filed Date: 9/12/24.

Accession Number: 20240912-5208.

Comment Date: 5 p.m. ET 9/23/24.

Docket Numbers: ER24-2808-001.

Applicants: HV Sun SFA Manager 1, LLC.

Description: Tariff Amendment: HV Sun SFA Manager 1, LLC Amended Shared Facilities Agreement to be effective 9/18/2024.

Filed Date: 9/17/24.

Accession Number: 20240917-5155.

Comment Date: 5 p.m. ET 9/27/24.

Docket Numbers: ER24-2869-000.

Applicants: Downeast Wind, LLC.

Description: Report Filing: Supplement to Submit Application for MBR Authorization Filing to be effective N/A.

Filed Date: 9/18/24.

Accession Number: 20240918-5078.

Comment Date: 5 p.m. ET 10/9/24.

Docket Numbers: ER24-3062-000.

Applicants: American Transmission Systems, Incorporated, PJM Interconnection, L.L.C.

Description: § 205(d) Rate Filing: American Transmission Systems, Incorporated submits tariff filing per 35.13(a)(2)(iii: ATSI submits Construction Agmnts, SA No. 6943 and 7172 to be effective 11/18/2024.

Filed Date: 9/18/24.

Accession Number: 20240918-5020.

Comment Date: 5 p.m. ET 10/9/24.

Docket Numbers: ER24-3063-000.

Applicants: American Transmission Systems, Incorporated, PJM Interconnection, L.L.C.

Description: § 205(d) Rate Filing: American Transmission Systems, Incorporated submits tariff filing per 35.13(a)(2)(iii: ATSI submits Construction Agmnts, SA No. 7170, 7171, 7178 to be effective 11/18/2024.

Filed Date: 9/18/24.

Accession Number: 20240918-5021.

Comment Date: 5 p.m. ET 10/9/24.

Docket Numbers: ER24-3064-000.

Applicants: American Electric Power Service Corporation, PJM Interconnection, L.L.C.

Description: § 205(d) Rate Filing: American Electric Power Service Corporation submits tariff filing per 35.13(a)(2)(iii: AEPSC submits I&M and WABASH Coordination Agmnt SA No. 7370 to be effective 9/1/2024.

Filed Date: 9/18/24.

Accession Number: 20240918-5025.

Comment Date: 5 p.m. ET 10/9/24.

Docket Numbers: ER24-3065-000.

Applicants: Prairie Center Energy LLC.

Description: Baseline eTariff Filing: Market-Based Rate Application to be effective 10/28/2024.

Filed Date: 9/18/24.

Accession Number: 20240918-5043.

Comment Date: 5 p.m. ET 10/9/24.

Docket Numbers: ER24-3066-000.

Applicants: Alabama Power Company, Georgia Power Company, Mississippi Power Company.

Description: Tariff Amendment: Alabama Power Company submits tariff filing per 35.15: Middleton Solar Farm LGIA Termination Filing to be effective 9/18/2024.

Filed Date: 9/18/24.

Accession Number: 20240918-5070.

Comment Date: 5 p.m. ET 10/9/24.

Docket Numbers: ER24-3067-000.

Applicants: Midcontinent Independent System Operator, Inc., Entergy Services, LLC.

Description: Compliance filing: Midcontinent Independent System Operator, Inc. submits tariff filing per 35: 2024-09-18_Entergy Order 864 ADIT Compliance to be effective 1/1/2018.

Filed Date: 9/18/24.

Accession Number: 20240918-5077.

Comment Date: 5 p.m. ET 10/9/24.

Docket Numbers: ER24-3068-000.

Applicants: Maine Yankee Atomic Power Company.

Description: § 205(d) Rate Filing: 2024-09-18 Filing to Update Maine Yankee Decommissioning Cost Estimate to be effective 11/18/2024.

Filed Date: 9/18/24.

Accession Number: 20240918-5079.

Comment Date: 5 p.m. ET 10/9/24.

Docket Numbers: ER24-3069-000.

Applicants: Yankee Atomic Electric Company.

Description: § 205(d) Rate Filing: 2024-09-18 Filing to Update Yankee Atomic Decommissioning Cost Estimate to be effective 11/18/2024.

Filed Date: 9/18/24.

Accession Number: 20240918-5082.

Comment Date: 5 p.m. ET 10/9/24.

Docket Numbers: ER24-3070-000.

Applicants: Connecticut Yankee Atomic Power Company.

Description: § 205(d) Rate Filing: 2024-09-18 Filing to Update Connecticut Yankee Decommissioning Cost Estimate to be effective 11/18/2024.

Filed Date: 9/18/24.

Accession Number: 20240918-5084.

Comment Date: 5 p.m. ET 10/9/24.

Docket Numbers: ER24-3071-000.

Applicants: ISO New England Inc.

Description: § 205(d) Rate Filing: Revisions to FCM Delivery Financial Assurance Calculation in the FAP to be effective 2/1/2025.

Filed Date: 9/18/24.

Accession Number: 20240918-5093.

Comment Date: 5 p.m. ET 10/9/24.

Docket Numbers: ER24-3072-000.

Applicants: PJM Interconnection, L.L.C.

Description: § 205(d) Rate Filing: Amendment to ISA, SA No. 5382; Queue No. W3-003/AD2-026/AE1-156 (amend) to be effective 11/18/2024.

Filed Date: 9/18/24.

Accession Number: 20240918-5097.

Comment Date: 5 p.m. ET 10/9/24.

Docket Numbers: ER24-3073-000.

Applicants: Idaho Power Company.

Description: Petition for Limited Waiver of Idaho Power Co.

Filed Date: 9/13/24.

Accession Number: 20240913-5246.

Comment Date: 5 p.m. ET 10/4/24.

Docket Numbers: ER24-3074-000.

Applicants: Black Hills Colorado Electric, LLC.

Description: § 205(d) Rate Filing: Amended and Restated LGIAs with BHCOE and Black Hills Colorado IPP, LLC to be effective 8/19/2024.

Filed Date: 9/18/24.

Accession Number: 20240918-5101.

Comment Date: 5 p.m. ET 10/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 18, 2024.
Debbie-Anne A. Reese,
Acting Secretary.

[FR Doc. 2024-21885 Filed 9-24-24; 8:45 am]

BILLING CODE 6717-01-P